DEPARTMENT OF TRANSPORTATION

Surface Transportation Board

[STB Finance Docket No. 33972]

Austin Area Terminal Railroad, Inc.—Change in Operators Exemption—Trans-Global Solutions, Inc.

Austin Area Terminal Railroad, Inc. (AATR) has filed a verified notice of exemption under 49 CFR 1150.31 to change operators from Trans-Global Solutions, Inc. d/b/a Austin Area Terminal Railroad (TGS) to AATR on a line of railroad owned by Capital Metropolitan Transportation Authority.¹ The line extends between milepost AUNW-MP0.0 (SPT-MP 57.00), west of Giddings, to milepost AUNW-MP154.07 (SPT-MP 99.04), at Llano, including the Marble Falls Branch (6.43 miles), the Scobee Spur (3.3 miles), and the Burnet Spur (0.93 mile), for approximately 162 miles, in Bastrop, Burnet, Lee, Llano, Travis, and Williamson Counties, TX. This change in operators is exempt under 49 CFR 1150.31(a)(3).²

¹ AATR is a wholly owned subsidiary of TGS.

² In order to qualify for a change in operators exemption, an applicant must give notice to shippers on the line. See 49 CFR 1150.32(b). By letter filed on December 11, 2000, AATR has certified to the Board that it has sent notice to all shippers on the line that AATR will be providing service in place of TGS.

The parties indicate that the exemption will be effective on or about December 13, 2000. The earliest the transaction can be consummated is December 13, 2000 (7 days after the exemption was filed).

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 33972, must be filed with the Surface Transportation Board, Office of the Secretary, Case Control Unit, 1925 K Street, NW., Washington, DC 20423-0001. In addition, a copy of each pleading must be served on Edward D. Greenberg, Esq., Galland, Kharasch, Greenberg, Fellman & Swirsky, P.C., Canal Square, 1054 Thirty-First Street, NW., Washington, DC 20007-4492.

Board decisions and notices are available on our website at http://WWW.STB.DOT.GOV.

Decided: December 12, 2000.
By the Board, David M. Konschnik, Director, Office of Proceedings.
Vernon A. Williams,
Secretary.

[FR Doc. 00-32156 Filed 12-19-00; 8:45 am]

BILLING CODE 4915-00-P